DEPARTMENT OF HOMELAND SECURITY

Federal Emergency Management Agency

[Docket ID FEMA-2022-0040; OMB No. 1660-0076]

Agency Information Collection Activities: Submission for OMB Review; Comment Request; Hazard Mitigation Grant Program (HMGP) Application Reporting

AGENCY: Federal Emergency Management Agency, Department of Homeland Security.

ACTION: 60 Day notice of revision and request for comments.

SUMMARY: The Federal Emergency Management Agency, as part of its continuing effort to reduce paperwork and respondent burden, invites the general public to take this opportunity to comment on an extension, with change, of a currently approved information collection. In accordance with the Paperwork Reduction Act of 1995, this notice seeks comments regarding the requirements, grants management procedures, and implementation of grants awarded under the Hazard Mitigation Grant Program (HMGP), which is a post-disaster program that contributes funds toward the cost of hazard mitigation activities to reduce the risk of future damage, hardship, loss or suffering in any area affected by a major disaster.

DATES: Comments must be submitted on or before January 23, 2023.

ADDRESSES: To avoid duplicate submissions to the docket, please submit comments at www.regulations.gov under Docket ID FEMA-2022-0040. Follow the instructions for submitting comments.

FOR FURTHER INFORMATION CONTACT: Jennie Orenstein, Chief, HMA Grants Policy Branch, at (202) 212-4071 or jennie.orenstein@fema.dhs.gov. You may contact the Information Management Division for copies of the proposed collection of information at email address: FEMA-Information-Collections-Management@fema.dhs.gov.

SUPPLEMENTARY INFORMATION: Section 404 of the Robert T. Stafford Disaster Relief and Emergency Assistance Act, 42 U.S.C. 5170c, authorizes the Hazard Mitigation Grant Program (HMGP). Program grant requirements and grants management procedures are outlined in 44 CFR part 206 subpart N, and 2 CFR parts 200 and 3002. The Federal Emergency Management Agency (FEMA) administers the HMGP, and Recipients implement the grants under the HMPG per grant agreement, rules, and regulations. The HMGP is a post-disaster program that contributes funds toward the cost of hazard mitigation activities to reduce the risk of future damage, hardship, loss or suffering in any area affected by a major disaster or any area affected by a fire for which assistance was provided under section 420 of the Stafford Act (42 U.S.C. 5187). Section 102 of the Stafford Act (42 U.S.C. 5122(4)) defines a “state” as any state of the United States, the District of Columbia, Puerto Rico, the Virgin Islands, Guam, American Samoa, and the commonwealth of the Northern Mariana Islands. “Recipient”, as provided in 2 CFR 200, means a non-Federal entity that receives a Federal award directly from a Federal awarding agency to carry out an activity under a Federal program, or an Indian tribal government that chooses to act as a recipient rather than as a subrecipient. “Subrecipient” refers to a non-Federal entity that receives a subaward from a pass-through entity to carry out part of a Federal program; but does not include an individual that is a beneficiary of such program. A subrecipient may also be a recipient of other Federal awards directly from a Federal awarding agency. The term “Indian tribal government” is defined in Section 102 of the Stafford Act, 42 U.S.C. 5122(6), as the governing body of any Indian or Alaska Native tribe, band, nation, pueblo, village, or community that the Secretary of the Interior acknowledges to exist as an Indian tribe under the Federally Recognized Indian Tribe List Act of 1994. In addition, the Sandy Recovery Improvement Act of 2013 (Pub. L. 113-2, 42 U.S.C. 5170(b)) amended the Stafford Act to allow the Chief Executive of a federally recognized Indian tribe to make a direct request for a major disaster or emergency declaration to the President of the United States.

The Department of Homeland Security (DHS) adopted in its entirety the Uniform Administrative Requirements, Cost Principles, and Audit Requirements for Federal Awards (2 CFR part 200) on December 26, 2014, at 2 CFR part 3002, (79 FR 75867, December 19, 2014). This rule eliminates overlapping and duplicative requirements for stakeholders, including states, territories and Indian tribal governments, by using general terms such as “recipient” and “pass-through entity.”

The HMGP regulation describes the application process in 44 CFR 206.436. Information collected through the financial award application is the minimum information necessary for the financial award administration under the HMGP and includes the project narrative, analysis of the measure's cost-effectiveness referred to as the benefit-cost determination, and environmental review used in conjunction with OMB No. 1660-0025.

44 CFR 206.436(d) states: “The State must submit all local HMGP applications and funding requests for the purpose of identifying new projects to the Regional Administrator within 12 months of the date of disaster declaration.” Furthermore, Section 311 of the DHS Appropriations Act, 2022 (Pub. L. 117-103, 136 Stat. 331) states: “beginning between January 1, 2020, and December 31, 2021, the Federal share of assistance, including direct Federal assistance, provided under such sections shall be not less than 90 percent of the eligible cost of such assistance.” The legislation applies to all current FY 2022 HMGP local and Tribal sub applicants and significantly alters application and program financial management information collection requirements. The DHS Appropriations Act, 2022 does not provide additional funding for HMGP COVID-19 relief beyond the already established $3.46 billion.

Per 44 CFR 206.438(c), progress reports must be submitted by the HMGP Recipient to the Regional Administrator on a quarterly basis, certifying how the funds are being used and reporting on the progress of activities funded under the subrecipient awards made to the Recipient by FEMA. The Regional Administrator and Recipient negotiate the date for submission of the first report. Quarterly progress reports describe the status of those projects on which a final payment of the Federal share has not been made to the recipient, and outline any problems or circumstances expected to result in noncompliance with the approved award conditions.

The legislative changes are expected to trigger a significant increase in requests by local sub applicants who have not yet developed FY 2022 project applications. The requests will likely extend the application deadline beyond the standard 12-month deadline of August 5, 2022. Applications Period extension requests, authorized under 44 CFR 206.436(e), may add additional information collection burden.

The Foundations for Evidence-Based Policymaking Act of 2018 (Evidence Act) (Pub. L. 115-435, 5 U.S.C. 311-315) establishes evaluation using systematic data collection and analysis of programs, policies, and organizations intended to assess their effectiveness and efficiency as an essential program activity. Hazard Mitigation programs are currently revising information collections to simply data collection, reduce burden, coordinate data collection across programs, develop performance metrics, and meet goals and priorities as stipulated in the Evidence Act. Program implementation of the Evidence Act will necessitate changes to information collections. Additionally, the Build America, Buy America Act (BABAA) (Pub. L. 117-58, 70901-70927) and Executive Order (E.O.) 14008, Tackling the Climate Crisis At Home and Abroad, (86 FR 7619, February 1, 2021) establishes additional information collection requirements, goals and priorities.

Collection of Information

Title: Hazard Mitigation Grant Program (HMGP) Application and Reporting.

Type of Information Collection: Extension, with change, of a currently approved information collection.

OMB Number: OMB No. 1660-0076.

FEMA Forms: Project Narrative; Benefit-Cost Determination; Environmental Review; FEMA Form FF-206-FY-22-154 (formerly 009-0-111A), Quarterly Progress Reports.

Abstract: The Federal Emergency Management Agency (FEMA) administers the Hazard Mitigation Grant Program, which is a post-disaster program that contributes funds toward the cost of hazard mitigation activities to reduce the risk of future damage hardship, loss or suffering in any area affected by a major disaster. FEMA uses applications to provide financial assistance in the form of grant awards and, through grantee quarterly reporting, monitor grantee project activities and expenditure of funds.

Affected Public: State, local, or Tribal Government.

Estimated Number of Respondents: 236.

Estimated Number of Responses: 10,891

Estimated Total Annual Burden Hours: 100,280.

Estimated Total Annual Respondent Cost: $6,141,147.

Estimated Respondents' Operation and Maintenance Costs: $0.

Estimated Respondents' Capital and Start-Up Costs: $0.

Estimated Total Annual Cost to the Federal Government: $2,211,399

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-25452 Filed 11-22-22; 8:45 am]

BILLING CODE 9111-BW-P